FEDERAL RETIREMENT THRIFT INVESTMENT BOARD

Sunshine Act Meetings; Federal Retirement Thrift Investment Board Member Meeting

TIME AND DATE: 4:00 p.m. (telephonic), March 28, 2018.

STATUS: Closed session.

MATTERS TO BE CONSIDERED: Information covered under 5 U.S.C. 552b (c)(9)(B).

CONTACT PERSON FOR MORE INFORMATION: Kimberly Weaver, Director, Office of External Affairs, (202) 942-1640.

Dated: March 27, 2018.
Dharmesh Vashee,
Deputy General Counsel, Federal Retirement Thrift Investment Board.

[FR Doc. 2018-06427 Filed 3-27-18; 11:15 am]

BILLING CODE 6760-01-P